DEPARTMENT OF THE TREASURY

Community Development Financial Institutions Fund

Proposed Collection; Comment Request: CDFI/CDE Project Profiles Web Form

ACTION: Notice and request for comments.

SUMMARY: The Department of the Treasury, as part of its continuing effort to reduce paperwork and respondent burden, invites the general public and other Federal agencies to take this opportunity to comment on proposed and/or continuing information collections, as required by the Paperwork Reduction Act of 1995, 44 U.S.C. 3506(c)(2)(A). Currently, the Community Development Financial Institutions (CDFI) Fund, Department of the Treasury, is soliciting comments concerning the CDFI/CDE Project Profile Web Form, a voluntary information collection effort involving all CDFI Fund programs. The specific information collection relates to the voluntary collection of narrative descriptions of projects financed by CDFI Fund awardees and allocatees in response to the public's request for better and more narrative information on impact and best practices associated with all of the CDFI Fund's programs. The purpose of the information collection is to more fully describe and record the innovative approaches community development financial institutions (CDFIs) and community development entities (CDEs) use in revitalizing communities and serving families, and the impact that these CDFIs and CDEs are realizing. CDFI Fund awardees and allocatees will be invited to submit narratives on community development projects that they believe demonstrate innovation or high impact. The project description may be for a project previously reported to the CDFI Fund through the Community Investment Impact System (CIIS) or for a new project that has not yet been reported in CIIS. The CDFI Fund plans to use the descriptions in CDFI Fund publications, on its Web site and in other ways to highlight the work of its awardees and allocatees.

DATES: Written comments should be received on or before September 27, 2010 to be assured of consideration.

ADDRESSES: Please direct all comments on the CDFI/CDE Project Profiles Web Form in writing to Kimberly Beauman, Legislative and External Affairs Specialist, CDFI Fund, U.S. Department of the Treasury, 601 13th Street, NW., Suite 200 South, Washington, DC 20005, by e-mail to LegislativeAndExternalAffairsOffice@cdfi.treas.gov, or by facsimile to (202) 622-7754. Please note: This is not a toll free number.

FOR FURTHER INFORMATION CONTACT: A draft of the information collection may be obtained from the CDFI Fund's Web site at http://www.cdfifund.gov. Requests for additional information should be directed to Kimberly Beauman, Legislative and External Affairs Specialist, CDFI Fund, U.S. Department of the Treasury, 601 13th Street, NW., Suite 200 South, Washington, DC 20005, or by phone to (202) 622-4436.

SUPPLEMENTARY INFORMATION: Title: CDFI/CDE Project Profile Web Form.

Abstract: The voluntary collection of narrative descriptions of projects financed by CDFI Fund awardees and allocatees via the CDFI/CDE Project Profile Web Form is in response to the public's request for better and more narrative information on impact and best practices associated with all of the CDFI Fund's programs. The purpose is to more fully describe and record the innovative approaches CDFIs (Community Development Financial Institutions) and CDEs (Community Development Entity) use in revitalizing communities and serving families, and the impact that these CDFIs and CDEs are realizing.

Each best practice is generated by one or more of the following six CDFI Fund programs:

1. Through the CDFI Program by directly investing in, supporting and training CDFIs that provide loans, investments, financial services and technical assistance to underserved populations and communities;

2. Through the New Markets Tax Credit (NMTC) Program by providing an allocation of tax credit authority to CDEs which enable them to attract investment from the private-sector and to reinvest these amounts in low-income communities;

3. Through the Bank Enterprise Award (BEA) Program by providing an incentive to FDIC insured banks and thrifts to invest in their communities and in CDFIs;

4. Through the Native American CDFI Assistance (NACA) Program, by providing financial assistance, technical assistance, and training to Native CDFIs and other Native entities proposing to become or create Native CDFIs;

5. Through the Capital Magnet Fund (CMF) Program, by providing competitively awarded grants to CDFIs and qualified nonprofit housing organizations to finance affordable housing activities as well as related economic development activities and community service facilities; and

6. Through the Financial Education and Counseling (FEC) Pilot Program, by providing grants to CDFIs and other eligible organizations to enable them to provide a range of financial education and counseling services to prospective homebuyers.

Current Actions: Revision of a currently approved collection.

Type of review: Regular review.

Affected Public: CDFIs and CDEs, including business or other for-profit institutions, nonprofit entities, and State, local and Tribal entities.

Estimated Number of Respondents: 100.

Estimated Annual Time per Respondent: 2.5 hours.

Estimated Total Annual Burden Hours: 250 hours.

Requests for Comments: Comments submitted in response to this notice will be summarized and/or included in the request for OMB approval. All comments will become a matter of public record. Comments are invited on: (a) The accuracy of the agency's estimate of the burden of the collection of information; (b) ways to enhance the quality, utility, and clarity of the information to be collected; and (c) ways to minimize the burden of the collection of information on respondents, including through the use of technology.

Authority: 12 U.S.C. 4707 et seq.; 26 U.S.C. 45D.

Dated: July 21, 2010.
Donna J. Gambrell,
Director, Community Development Financial Institutions Fund.

[FR Doc. 2010-18372 Filed 7-26-10; 8:45 am]

BILLING CODE 4810-70-P